DEPARTMENT OF ENERGY

Federal Energy Regulatory Commission

Combined Notice of Filings

Take notice that the Commission has received the following Natural Gas Pipeline Rate and Refund Report filings:

Filings Instituting Proceedings

Docket Numbers: PR22-5-001.

Applicants: Eagle Ford Midstream, LP.

Description: Submits tariff filing per 284.123(b),(e)+(g): Amended Section 311 Rate Approval to be effective 11/12/2021.

Filed Date: 1/7/2022.

Accession Number: 20220107¬5076.

Comments Due: 5 p.m. ET 1/28/22.

284.123(g) Protests Due: 5 p.m. ET 1/28/22.

Docket Numbers: RP22-479-000.

Applicants: Adelphia Gateway, LLC.

Description: § 4(d) Rate Filing: Adelphia Negotiated Rate filing 1-10-22 to be effective 1/10/2022.

Filed Date: 1/10/22.

Accession Number: 20220110-5100.

Comment Date: 5 p.m. ET 1/24/22.

Docket Numbers: RP22-480-000.

Applicants: Gas Transmission Northwest LLC.

Description: Compliance filing: Report of Refunds—Coyote Springs Lateral IT Revenue (Nov. 2020-Oct. 2021) to be effective N/A.

Filed Date: 1/10/22.

Accession Number: 20220110-5113.

Comment Date: 5 p.m. ET 1/24/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-158-002.

Applicants: Rover Pipeline LLC.

Description: Rover Pipeline LLC submits tariff filing per 154.203: Revision to RVR Cost & Revenue Study in Compliance with CP15-93-000 et al. to be effective N/A.

Filed Date: 01/24/22.

Accession Number: 2022011-5040.

Comment Date: 5 p.m. ET 1/24/22.

Docket Numbers: RP22-468-001.

Applicants: Northern Border Pipeline Company.

Description: Tariff Amendment: Negotiated Rate Agreement—Sequent TL372F Errata to be effective 1/1/2022.

Filed Date: 1/10/22.

Accession Number: 20220110-5172.

Comment Date: 5 p.m. ET 1/24/22.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2022.
Debbie-Anne A. Reese,
Deputy Secretary.

[FR Doc. 2022-00805 Filed 1-14-22; 8:45 am]

BILLING CODE 6717-01-P